DEPARTMENT OF AGRICULTURE

Agricultural Marketing Service

7 CFR Part 58

[Doc. No. AMS-DA-22-0064]

RIN 0581-AE20

Plant Records To Include Grade Label Butterfat Testing

AGENCY: Agricultural Marketing Service, USDA.

ACTION: Final rule; delay of effective date.

SUMMARY: This document delays the effective date of the January 16, 2025, final rule that adopted amendments to the plant records requirement for the Agricultural Marketing Service (AMS) Dairy Grading and Inspection Program. The amendments allow butterfat tests to be performed at an in-house or approved third party laboratory and add a requirement for plants to maintain and make such records available for examination by a United States Department of Agriculture (USDA) inspector. These amendments increase efficiency by conforming to current industry practice.

DATES: As of February 10, 2025, the effective date of the final rule amending 7 CFR part 58, published on January 16, 2025 (90 FR 4585), is delayed until March 21, 2025.

FOR FURTHER INFORMATION CONTACT: Whitney Rick, Grading and Standardization Division, Dairy Program, Agricultural Marketing Service, U.S. Department of Agriculture, Room 2530-South Building, Mail Stop 0225, 1400 Independence Avenue SW, Washington, DC 20250-0230: Telephone: (202) 236-8241; Email: Whitney.Rick@usda.gov.

SUPPLEMENTARY INFORMATION: In accordance with the memorandum of January 20, 2025, from the President to executive departments and agencies, entitled “Regulatory Freeze Pending Review,” ¹ this document temporarily delays the effective date of the rule titled, “Plant Records to Include Grade Label Butterfat Testing,” which was published in the Federal Register on January 16, 2025 (90 FR 4585). The rule adopted amendments to the plant records requirement for the Agricultural Marketing Service (AMS) Dairy Grading and Inspection Program. The amendments allow butterfat tests to be performed at an in-house or approved third party laboratory and add a requirement for plants to maintain and make such records available for examination by a United States Department of Agriculture (USDA) inspector. These amendments increase efficiency by conforming to current industry practice.

¹ https://www.whitehouse.gov/presidential-actions/2025/01/regulatory-freeze-pending-review/.

This action is exempt from notice and comment under 5 U.S.C. 553 and is applicable immediately upon publication in the Federal Register, based on the good cause exceptions in 5 U.S.C. 553(b)(B) and 553(d)(3), respectively. Seeking public comment is impracticable, unnecessary, and contrary to the public interest. The temporary delay in effective date is necessary to give Department officials the opportunity for further review and consideration of new regulations, consistent with the President's memorandum of January 20, 2025. Given the imminence of the effective date, seeking prior public comment on this temporary delay would have been impractical, as well as contrary to the public interest in the orderly promulgation and implementation of regulations. The imminence of the effective date is also good cause for making this action effective immediately upon publication.

Erin Morris,
Associate Administrator, Agricultural Marketing Service.

[FR Doc. 2025-02412 Filed 2-6-25; 8:45 am]

BILLING CODE P